Title 3—

The President

Notice of February 19, 2019

Continuation of the National Emergency With Respect to Cuba and Continuing To Authorize the Regulation of the Anchorage and Movement of Vessels

On February 22, 2018, by Proclamation 9699, the national emergency with respect to Cuba declared in Proclamation 6867 of March 1, 1996, expanded by Proclamation 7757 of February 26, 2004, and modified by Proclamation 9398 of February 24, 2016, was modified and continued based on a disturbance or threatened disturbance of the international relations of the United States related to Cuba. The unauthorized entry of any United States-registered vessel into Cuban territorial waters and the situation in Cuba continue to pose an unusual and extraordinary threat to the national security and foreign policy of the United States. Therefore, in accordance with section 202(d) of the National Emergencies Act (50 U.S.C. 1622(d)) and section 1 of title II of Public Law 65-24, ch. 30, June 15, 1917, as amended (50 U.S.C. 191), I am continuing for 1 year the national emergency declared in Proclamations 6867, 7757, 9398, and 9699.

This notice shall be published in the Federal Register and transmitted to the Congress.

THE WHITE HOUSE,

February 19, 2019.

[FR Doc. 2019-03177

Filed 2-20-19; 11:15 am]

Billing code 3295-F9-P